DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of March 2006.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

I. Whether a significant number of workers in the workers' firm are 50 years of age or older.

II. Whether the workers in the workers' firm possess skills that are not easily transferable.

III. The competitive conditions within the workers' industry (i.e., conditions within the industry are adverse).

Affirmative Determinations for Worker Adjustment Assistance and Alternative Trade Adjustment Assistance

The following certifications have been issued; the date following the company name and location of each determination references the impact date for all workers of such determination.

The following certifications have been issued. The requirements of (a)(2)(A) (increased imports) of Section 222, and Section 246(a)(3)(A)(ii) of the Trade Act have been met.

TA-W-58,713; A.T. Cross Company, Lincoln, RI: December 25, 2005

TA-W-58,731; Hospital Specialty Company, Div. of the Tranzonic Companies, Tempe, AZ: January 25, 2005

TA-W-58,721; Federal Mogul, Boyertown, PA: January 25, 2005

TA-W-58,736; Honeywell Chemicals, Claymont, DE: January 24, 2005

TA-W-58,799; Commonwealth Aluminum Concast, Inc., Carson Plant, Prime Personnel, Human Personnel, Voit, Long Beach, CA: February 3, 2005

TA-W-58,668; Lear Corporation, Design Group within the LearTech Group, Southfield, MI: January 18, 2005

TA-W-58,668A; Lear Corporation, Design Group within the LearTech Group, Troy, MI: January 18, 2005

TA-W-58,668B; Lear Corporation, Design Group within the LearTech Group, Dearborn, MI: January 18, 2005

TA-W-58,668C; Lear Corporation, Design Group within the LearTech Group, Rochester Hills, MI: January 18, 2005

TA-W-58,837; ATEK Manufacturing, Command Labor & Doherty Staffing, Brainerd, MN: February 13, 2005

TA-W-58,732; Jesco Athletic Company, James E. Short Div., Williamsport, PA: January 26, 2005

The following certifications have been issued. The requirements of (a)(2)(B) (shift in production) of Section 222, and Section 246(a)(3)(A)(ii) of the Trade Act have been met.

TA-W-58,763; Spartech Polycom, Donora Plant #2,Washington, PA: January 31, 2005

TA-W-58,794; Kyocera Wireless Corp., Boulder, CO: February 6, 2005

TA-W-58,860; St. John Companies, Inc. (The), Volt Temporaries and Apple One, Valencia, CA: February 15, 2005

TA-W-58,889; Visteon Climate Control Systems, Independent Aftermarket Div., West Seneca, NY: February 17, 2005

TA-W-58,853; Pressed Steel Tank Co., Inc., Milwaukee, WI: February 15, 2005

The following certification has been issued.

The requirement of supplier to a trade certified firm, and Section 246(a)(3)(A)(ii) of the Trade Act have been met.

TA-W-58,699; Winzen Film, Inc., Super Sack Bag, Inc., Manufacturing Div. Qualified, Sulphur Springs, TX: January 13, 2005

TA-W-58,717; GKN Sinter Metals, Industrial Products Group Division, Owosso, MI: January 16, 2005

TA-W-58,886; Hampson Corporation, MK Staffing, North Ridgeville, OH: February 14, 2005

The following certification has been issued. The requirement of downstream producer to a trade certified firm and Section 246(a)(3)(A)(ii), and Section 246(a)(3)(A)(ii) of the Trade Act have been met.

None

Negative Determinations for Worker Adjustment Assistance

In the following cases, the investigation revealed that the criteria for eligibility have not been met for the reasons specified.

The investigation revealed that criterion (a)(2)(A)(I.A) and (a)(2)(B)(II.A) (no employment decline) has not been met.

None

The investigation revealed that criteria (a)(2)(A)(I.B.)(Sales or production, or both, did not decline) and (a) (2) (B) (II.B) (shift in production to a foreign country) have not been met.

TA-W-58,716; IBM Corp., Workers at Dana Corp., Danville, KY.

TA-W-58,770; Thomasville Furniture Ind., Plant #5, Conover, NC.

The investigation revealed that criteria (a)(2)(A)(I.C.) (increased imports) and (a)(2)(B)(II.B) (No shift in production to a foreign country) have not been met.

TA-W-58,820; Flexible Flyer Acquisition Wheel Goods Corp., West Point, MS.

The investigation revealed that criteria (a)(2)(A)(I.C.) (Increased imports and (a)(2)(B)(II.C) (has shifted production to a foreign country) have not been met.

None

The workers firm does not produce an article as required for certification under Section 222 of the Trade Act of 1974.

TA-W-58,839; Dan River, Inc., Calhoun Falls, SC.

TA-W-58,857; Core Source, Brooklyn Park, MN.

TA-W-58,903; Bunker Hill Commercial Warehouse, Paterson, NJ.

TA-W-58,904; Block Corporation, Amory, MS.

TA-W-58,904A; Block Corp., Block Sportswear Division, Amory, MS.

TA-W-58,904B; Block Corp., American Trouser Division, Columbus, MS.

The investigation revealed that criteria (2) has not been met. The workers firm (or subdivision) is not a supplier or downstream producer to trade-affected companies.

TA-W-58,772; PGP Corporation, Voss Lantz Division, Detroit, MI.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

Since the workers are denied eligibility to apply for TAA, the workers cannot be certified eligible for ATAA.

TA-W-58,855; Crown, Cork, and Seal USA, Inc, Crown Holdings, Inc., Abilene, TX.

TA-W-58,716; IBM Corp., Workers at Dana Corp., Danville, KY.

TA-W-58,770; Thomasville Furniture Ind., Plant #5, Conover, NC.

TA-W-58,820; Flexible Flyer Acquisition Wheel Goods Corp., West Point, MS.

TA-W-58,839; Dan River, Inc., Calhoun Falls, SC.

TA-W-58,857; Core Source, Brooklyn Park, MN.

TA-W-58,903; Bunker Hill Commercial Warehouse, Paterson, NJ.

TA-W-58,904; Block Corporation, Amory, MS.

TA-W-58,904A; Block Corp., Block Sportswear Division, Amory, MS.

TA-W-58,904B; Block Corp., American Trouser Division, Columbus, MS.

TA-W-58,772; PGP Corporation, Voss Lantz Division, Detroit, MI.

The Department as determined that criterion (1) of Section 246 has not been met. Workers at the firm are 50 years of age or older.

None

The Department as determined that criterion (2) of Section 246 has not been met. Workers at the firm possess skills that are easily transferable.

TA-W-58,763; Spartech Polycom, Donora Plant #2, Washington, PA

The Department as determined that criterion (3) of Section 246 has not been met. Competition conditions within the workers' industry are not adverse.

None

I hereby certify that the aforementioned determinations were issued during the month of March 2006. Copies of These determinations are available for inspection in Room C-5311, U.S. Department of Labor, 200 Constitution Avenue, NW., Washington, DC 20210 during normal business hours or will be mailed to persons who write to the above address.

Dated: March 23, 2006.
Richard Church,
Acting Director, Division of Trade Adjustment Assistance.

[FR Doc. E6-4858 Filed 4-3-06; 8:45 am]

BILLING CODE 4510-30-P